DEPARTMENT OF HEALTH AND HUMAN SERVICES

Meeting of the National Vaccine Advisory Committee

AGENCY: Office of the Secretary, Department of Health and Human Services.

ACTION: Notice of meeting.

SUMMARY: As stipulated by the Federal Advisory Committee Act, the Department of Health and Human Services (HHS) is hereby giving notice that the National Vaccine Advisory Committee (NVAC) will hold a meeting, to be held by teleconference. This meeting will be equivalent to an in-person meeting and will be open to the public. Pre-registration is required for both public attendance by phone as well as public comment. Any individual who wishes to attend the meeting and/or participate in the public comment session should e-mail nvpo@hhs.gov.

DATES: The Committee will meet by teleconference on May 7, 2009, from 3 p.m. to 4:30 p.m., Eastern Daylight Time (EDT).

ADDRESSES: The meeting will occur by teleconference. To attend, please call 1-800-369-1957, passcode “NVAC”. International callers must dial 1-630-395-0286.

FOR FURTHER INFORMATION CONTACT: Ms. Andrea Krull, Public Health Advisor, National Vaccine Program Office, Department of Health and Human Services, Room 715-H, Hubert H. Humphrey Building, 200 Independence Avenue, SW., Washington, DC 20201. Phone: (202) 690-5566; Fax: (202) 260-1165; e-mail: nvpo@hhs.gov.

SUPPLEMENTARY INFORMATION: Pursuant to Section 2101 of the Public Health Service Act (42 U.S.C. 300aa-1), the Secretary of Health and Human Services was mandated to establish the National Vaccine Program to achieve optimal prevention of human infectious diseases through immunization and to achieve optimal prevention against adverse reactions to vaccines. The National Vaccine Advisory Committee was established to provide advice and make recommendations to the Director of the National Vaccine Program, on matters related to the Program's responsibilities. The Assistant Secretary for Health serves as Director of the National Vaccine Program.

This is a special meeting of the NVAC. Discussions will surround the draft recommendations on the draft ISO Scientific Agenda contained in the document titled “NVAC Vaccine Safety Working Group Draft Report” prepared at the request of the Assistant Secretary for Health by the Committee's Vaccine Safety Working Group. The NVAC Vaccine Safety Working Group was initially established to (1) undertake and coordinate a scientific review of the draft Centers for Disease Control and Prevention (CDC) Immunization Safety Office (ISO) Scientific Agenda, and (2) review the current vaccine safety system. The draft report may be found at http://www.hhs.gov/nvpo/nvac/reports.html. The draft ISO Scientific Agenda can be found at: http://www.cdc.gov/vaccinesafety/00_pdf/draft_agenda_recommendations_080404.pdf and the addendum at http://www.cdc.gov/vaccinesafety/00_pdf/draft_recommendations_add_080410.pdf. The Committee will review the draft document and discuss the proposed recommendations in preparation for an upcoming vote on these recommendations at the June 2009 NVAC meeting.

For this special meeting, members of the public are invited to attend by teleconference via a toll-free call-in phone number. The call-in number will be operator assisted to provide members of the public the opportunity to provide comments to the Committee. Public participation and ability to comment will be limited to space and time available. Public comment will be limited to no more than three minutes per speaker. Pre-registration is required for both public attendance and comment. Individuals who plan to attend and need special assistance, such as accommodation for hearing impairment or other reasonable accommodations, should notify the designated contact person at least one week prior to the meeting.

Any members of the public who wish to have printed material distributed to NVAC should submit materials to the Executive Secretary, NVAC, through the contact person listed above prior to close of business April 30, 2009. A draft agenda and any additional materials will be posted on the NVAC Vaccine Safety Working Group Web site (http://www.hhs.gov/nvpo/nvac/) prior to the meeting.

Dated: April 14, 2009.
Raymond A. Strikas,
Medical Officer, National Vaccine Program Office, U.S. Department of Health and Human Services.

[FR Doc. E9-8825 Filed 4-16-09; 8:45 am]

BILLING CODE 4150-44-P